DEPARTMENT OF COMMERCE

National Oceanic and Atmospheric Administration

15 CFR Part 902

[Docket No. 00331092-0315-02; I.D. 030100F]

Fisheries of the Exclusive Economic Zone Off Alaska; License Limitation Program for the Scallop Fishery; Correction

AGENCY: National Marine Fisheries Service (NMFS), National Oceanic and Atmospheric Administration (NOAA), Commerce.

ACTION: Final rule and application period; correction.

SUMMARY: This document corrects the final rule for the License Limitation Program by adding an Office of Management and Budget (OMB) control number to § 902.1. The OMB control number was inadvertently omitted from the final rule implementing Amendment 4 to the Fishery Management Plan for the Scallop Fishery off Alaska.

DATES: Effective January 16, 2001.

FOR FURTHER INFORMATION CONTACT: Gretchen Harrington, 907-586-7228.

SUPPLEMENTARY INFORMATION: The final rule for Fisheries of the Exclusive Economic Zone off Alaska; License Limitation Program for the Scallop Fishery (65 FR 78110, December 14, 2000) established permit requirements to implement Amendment 4 to the Fishery Management Plan for the Scallop Fishery off Alaska. The permit requirements were approved by OMB but the control number was not added to § 902.1(b).

Correction

In rule FR Doc 00-31649, published on December 14, 2000 (65 FR 78110) make the following correction. On page 78115, in the third column, after the signature, add the following text:

For reasons set out in the preamble, 15 CFR part 902, is amended as follows:

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, the table in paragraph (b) under 50 CFR is amended by adding in numerical order an entry for § 679.4(g) with a new OMB control number to read as follows:

§ 902.1 OMB control numbers assigned pursuant to the Paperwork Reduction Act.

* * * * *

(b) * * *

CFR part or section where the information collection requirement is located | Current OMB control number the information (All numbers begin with 0648-)
* * * * * |
50 CFR |
* * * * *
679.4 (g) | -0420
* * * * * |

Dated: January 8, 2001.
William T. Hogarth,
Deputy Assistant Administrator for Fisheries, National Marine Fisheries Service.

[FR Doc. 01-1214 Filed 1-12-01; 8:45 am]

BILLING CODE: 3510-22-S